DEPARTMENT OF THE TREASURY

Alcohol and Tobacco Tax and Trade Bureau

Proposed Information Collections; Comment Request

AGENCY: Alcohol and Tobacco Tax and Trade Bureau (TTB), Treasury.

ACTION: Notice and request for comments.

SUMMARY: As part of our continuing effort to reduce paperwork and respondent burden, and as required by the Paperwork Reduction Act of 1995, we invite comments on the proposed or continuing information collections listed below in this notice.

DATES: We must receive your written comments on or before November 13, 2007.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau, as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms, recordkeeping requirements, or questionnaires:

Title: Notice of Release of Tobacco Products, Cigarette Papers, or Cigarette Tubes.

OMB Number: 1513-0025.

TTB Form Number: 5200.11.

Abstract: This form documents the release of tobacco products and cigarette papers and tubes from customs custody, or the return of such articles, to a manufacturer or an export warehouse proprietor for use in the United States without payment of tax or duty. The form is also used to ensure compliance with laws and regulations at the time of these transactions and for post audit examinations.

Current Actions: There are minor corrections to this information collection, and it is being submitted as a revision. We have made a few grammatical corrections to the form as well as updated an office name.

Type of Review: Revision of a currently approved collection.

Affected Public: Business or other for-profit.

Estimated Number of Respondents: 268.

Estimated Total Annual Burden Hours: 536.

Title: Notice of Change in Status of Plant.

OMB Number: 1513-0044.

TTB Form Number: 5110.34.

Abstract: TTB F 5110.34 is necessary to show the use of the distilled spirits plant (DSP) premises for other activities or by alternating proprietors. It describes the proprietor's use of plant premises and other information to show that the change in plant status is in conformity with law and regulations. It also shows what bond covers the activities of the DSP at a given time.

Current Actions: We made minor grammatical changes to this information collection, and it is being submitted as a revision.

Type of Review: Revision of a currently approved collection.

Affected Public: Business or other for-profit.

Estimated Number of Respondents: 100.

Estimated Total Annual Burden Hours: 1,000.

Title: Tax Deferral Bond—Distilled Spirits (Puerto Rico).

OMB Number: 1513-0050.

TTB Form Number: 5110.50.

Abstract: TTB F 5110.50 is the bond to secure payment of excise taxes on distilled spirits shipped from Puerto Rico to the U.S. on deferral of the tax. The form identifies the principal, the surety, purpose of bond, and allocation of the penal sum among the principal's locations.

Current Actions: We made minor grammatical changes to this information collection and it is being submitted as a revision.

Type of Review: Revision of a currently approved collection.

Affected Public: Business or other for-profit.

Estimated Number of Respondents: 10.

Estimated Total Annual Burden Hours: 10.

Title: Usual and Customary Business Records Maintained by Brewers.

OMB Number: 1513-0058.

Recordkeeping Requirement Number: 5130/1.

Abstract: TTB audits brewers' records to verify production of beer and cereal beverages, and to verify the quantity of beer removed subject to tax and removed without payment of tax.

Current Actions: This information collection is being submitted as a revision. There is an increase to the number of respondents; however, there is no change to the burden. Since these are usual and customary records that the tobacco manufacturer would keep in the normal course of doing business, the burden remains at one (1).

Type of Review: Revision of a currently approved collection.

Affected Public: Business or other for-profit.

Estimated Number of Respondents: 1,640.

Estimated Total Annual Burden Hours: One (1).

Title: Recordkeeping for Tobacco Products Removed in Bond from Manufacturers' Premises for Experimental Purposes—27 CFR 40.232(d).

OMB Number: 1513-0110.

Recordkeeping Requirement Number: None.

Abstract: The prescribed records apply to manufacturers who ship tobacco products in bond for experimental purposes. TTB can examine these records to determine that the proprietor has complied with law and regulations that allow such tobacco products to be shipped in bond for experimental purposes without payment of the excise tax.

Current Actions: This information collection is being submitted as a revision. There is an increase to the number of respondents; however, there is no change to the burden. These are usual and customary records that the tobacco manufacturer would keep in the normal course of doing business; therefore, the burden remains at one (1).

Type of Review: Revision of a currently approved collection.

Affected Public: Business or other for-profit; Individuals or households.

Estimated Number of Respondents: 170.

Estimated Total Annual Burden Hours: One (1).

Title: Statement of Ultimate Vendor (27 CFR 53.179(b)); Exemption Certificate (27 CFR 53.134(d)(2)); Exemption Certificate (27 CFR 53.135(c)); Statement of Manufacturer's Vendee (27 CFR 53.133(d)); and Statement of Manufacturer's Vendee (27 CFR 53.132(c)).

OMB Number(s): To be assigned.

TTB Form Numbers: TTB I 5600.33; TTB I 5600.34; TTB I 5600.35; TTB I 5600.36, and TTB I 5600.37, respectively.

Abstract: 27 CFR part 53 requires that, in some cases, persons who sell firearms or ammunition tax-free use specific exemption certificates or statements to support the tax-free sales. In addition, 27 CFR part 53 requires a specific statement from the ultimate vendor to support claims for certain tax refunds or credits. Although the regulations require firearms and ammunition excise taxpayers to design and reproduce these certificates or statements as specified in the regulations, in order to promote uniformity among excise taxpayers and compliance with regulations, these certificates and statements are needed.

Current Actions: We are changing this information collection. First, we are changing the “I” in the form number to an “F.” Secondly, because some of the forms have the same name, we are changing the names of four of the forms to: Exemption Certificate (Use on Certain Vessels or Aircraft), TTB F 5600.34; Exemption Certificate (Use by State or Local Governments), TTB F 5600.35; Statement of Manufacturer's Vendee (For Exports), TTB F 5600.36; and Statement of Manufacturer's Vendee (Use in Further Manufacture), TTB F 5600.37. TTB F 5600.33 will remain the same, “Statement of Ultimate Vendor.” Thirdly, we added a Paperwork Reduction Act Notice to each of the forms. Finally, the regulations require the information collected in these forms to be collected and retained, but not in any particular format. The regulations offer these forms as merely a uniform way of collecting the required information. Therefore, we are seeking approval of these forms; but more importantly, we are seeking approval of the information collection requirements found in the regulatory sections listed above.

Type of Review: Existing collection in use without an OMB control number.

Affected Public: Business or other for-profit; individuals or households; State or Local Governments.

Estimated Number of Respondents: 7,000.

Estimated Total Annual Burden Hours: 52,500.

Dated: September 5, 2007.
Francis W. Foote,
Director, Regulations and Rulings Division.

[FR Doc. E7-17877 Filed 9-10-07; 8:45 am]

BILLING CODE 4810-31-P